DEPARTMENT OF COMMERCE

International Trade Administration

[Docket No. 021220324-2324-01]

Special American Business Internship Training Program (SABIT) Grants Funding Availability

AGENCY: International Trade Administration, U.S. Department of Commerce.

ACTION: Notice.

SUMMARY: This Notice announces availability of funds for the Special American Business Internship Training Program (SABIT), for training business executives and scientists (also referred to as “interns”) from Eurasia (see program description for eligible countries).

DATES: The closing date for applications is March 1, 2003. If available funds are depleted prior to the closing date, a notice to that effect will be published in the Federal Register. Processing of complete applications takes approximately three to four months. All awards are expected to be made by July 1, 2003.

ADDRESSES: Request for Applications: Competitive Application kits will be available from ITA starting on the day this notice is published. To obtain a copy of the Application Kit please contact SABIT by: (1) E-mail at SABITApply@ita.doc.gov, providing your name, company name and address; (2) Telephone (202) 482-0073; (3) The world wide web at http.www.mac.doc.gov/sabit/sabit.html; (4) Facsimile (202) 482-2443; (5) Mail: Send a written request with two self-addressed mailing labels to Application Request, The SABIT Program, U.S. Department of Commerce, [FCB]—Fourth Floor—4100W, 1401 Constitution Avenue, NW., Washington, DC 20230. The telephone numbers are not toll free numbers. Only one copy of the Application Kit will be provided to each organization requesting it, but it may be reproduced by the requesters.

FOR FURTHER INFORMATION CONTACT: Liesel C. Duhon, Director, SABIT Program, U.S. Department of Commerce, phone—(202) 482-0073, facsimile—(202) 482-2443. These are not toll free numbers.

SUPPLEMENTARY INFORMATION: Authority: 22 U.S.C. 2395 (b).

Catalog of Federal Domestic Assistance (CFDA): 11.114—Special American Business Internship Training Program.

Program Description: The Department of Commerce, International Trade Administration (ITA) established the SABIT program in September 1990 to assist Eurasia's transition to a market economy. Since that time, SABIT has been supporting U.S. companies that wish to provide business executives and scientists from Eurasia three to six month programs of hands-on training in a U.S. market economy.

Under the SABIT program, qualified U.S. firms will receive funds through a cooperative agreement with ITA to help defray the cost of hosting interns. The training must take place in the United States. ITA will interview Eurasian managers or scientists nominated by participating U.S. companies, or assist in identifying eligible candidates. Interns may be from any of the following countries in Eurasia: Armenia, Azerbaijan, Belarus, Georgia, Kazakhstan, Kyrgyzstan, Moldova, Russia, Tajikistan, Turkmenistan, Ukraine, and Uzbekistan. Please note: Programs with Azerbaijan are subject to the restrictions of Section 907 of the Freedom Support Act of 1992 and waivers: Employees of the Government of Azerbaijan or any of its instrumentalities are excluded from participation and no U.S. participant overseas may work for the Government of Azerbaijan or any of its instrumentalities. However, additional specific restrictions may apply. The U.S. firms will be expected to provide the interns with a hands-on, non-academic, executive training program designed to maximize their exposure to management or commercially-oriented scientific operations. At the end of the training program, interns must return to his/her home country. If there is any evidence of a conflict of interest between the nominated intern and the company, the intern is disqualified.

SABIT exposes Eurasian business managers and scientists to a completely new way of thinking in which demand, consumer satisfaction, and profits drive production. Mid-to-senior-level interns visiting the U.S. for internship programs with public or private sector companies will train in an environment that will provide them with practical knowledge for transforming their countries' enterprises and economies to a free market. The program provides first-hand, eye-opening experience to managers and scientists that cannot be duplicated by American managers traveling to their territories.

Managers: SABIT assists economic restructuring in Eurasia by providing mid-to-senior level business managers with practical training in American methods of innovation and management in such areas as strategic planning, financing, production, distribution, marketing, accounting, wholesaling, and/or labor relations. This first-hand experience in the U.S. economy enables interns to become leaders in establishing and operating a market economy in Eurasia, and creates a unique opportunity for U.S. firms to familiarize key executives from Eurasia with their products and services. Sponsoring U.S. firms will benefit by establishing relationships with key managers in similar industries who are uniquely positioned to assist their U.S. sponsors in doing business in Eurasia.

Scientists: SABIT provides opportunities for gifted scientists to apply their skills to peaceful research and development in the civilian sector, in areas such as defense conversion, medical research, and the environment, and exposes them to the role of scientific research in a market economy where applicability of research relates to business success. Sponsoring firms in the U.S. scientific community also benefit from exchanging information and ideas, and different approaches to new technologies.

All internships are three to six months; however, ITA reserves the right to allow an intern to stay for a shorter period of time (no less than one month) if the U.S. company agrees and the intern demonstrates a need for a shorter internship based on his or her management responsibilities. ITA will reimburse companies for the round trip international travel (coach class tickets) of each intern from the intern's home city in Eurasia to the U.S. internship site, upon submission of the paid travel invoice, payment receipt, or other evidence of payment and the form SF-270, “Request for Advance or Reimbursement.” Travel under the program is subject to the Fly America Act. Recipient firms must provide a stipend of $34 per day directly to the interns. Recipient firms will be reimbursed for this stipend, up to a maximum payment for six months, upon the submission of an end-of-internship report and Standard Form SF-270, Request for Advance and/or Reimbursement. Interns must return to their home countries immediately upon completion of their U.S. internships. Recipient firms must provide appropriate housing with a private room for each intern. A market assessment for housing must be provided with the SABIT application, to verify housing costs in the recipient firms' training location(s). This assessment will be used to determine the final award amount granted. Recipient firms will be reimbursed up to $500.00 per month (excluding utilities or telephone services). For cities with higher costs of living, up to $750.00 a month may be reimbursed. Reimbursement will be made upon submission of the end-of-internship report, standard form SF-270, and receipts or other proof of payment of actual housing cost.

In general, each award will have a cap of $13,700 per intern for total cost of airline travel, stipend and housing costs. ITA reserves the right to allow an award to exceed this cap in cases of unusually high costs, specifically airfare from remote regions of Eurasia such as Central Asia and the Caucasus. However, the total reimbursement cannot exceed the award amount. There are no specific matching requirements for the awards. Recipient firms, however, are expected to bear the costs beyond those covered by the award, including: Visa fees, medical insurance, any food and incidentals costs beyond the $34 per day stipend, additional lodging costs beyond the reimbursed amount, any training-related travel within the U.S., training manuals and provision of the hands-on training for the interns. Recipients will be required to submit proof of the interns' medical insurance coverage to the Federal Program Officer before the interns' arrivals. The insurance coverage must include an accident and comprehensive medical insurance program as well as coverage for accidental death, emergency medical evacuation, and repatriation.

U.S. firms wishing to utilize SABIT in order to be matched with an intern without applying for financial assistance may do so. Such firms will be responsible for all costs, including travel expenses, related to sponsoring the intern. However, prior to acceptance as a SABIT intern, work plans and candidates must be approved by the SABIT Program. Furthermore, program training will be monitored by SABIT staff and evaluated upon completion of training. ITA does not guarantee that it will match Applicants with the profile provided to SABIT.

Funding Availability: Pursuant to section 632(a) of the Foreign Assistance Act of 1961, as amended (the “Act”) funding to the U.S. Department of Commerce (DOC) for the program will be provided by the United States Agency for International Development (A.I.D.). ITA will award financial assistance and administer the program pursuant to the authority contained in section 635(b) of the Act and other applicable grant rules. The estimated amount of financial assistance available for the program is $1,500,000. Additional funding may become available at a future date.

Matching Requirements: The budget will not include matching requirements, however, recipients are expected to bear the costs beyond $34 per day stipend, additional lodging costs beyond the reimbursed amount, any training-related travel within the U.S., training manuals and provisions of the hands-on training for the interns.

Funding Instrument: Federal assistance will be awarded pursuant to a cooperative agreement between DOC and the recipient firm.

Eligibility Criteria: Eligible applicants for the SABIT program will include all for profit or non-profit U.S. corporations, associations, organizations or other public or private entities located in the United States. Agencies or divisions of the federal government are not eligible. However, state and local governments are eligible.

Award Period: Funds for awards under this program will be available effective with the publication of this notice. The funds will remain available until they are obligated or until the deadline date. Recipient firms will have one year from the date listed on the Financial Assistance Award, CD-450, in order to use the funds. However, DOC reserves the right to allow an extension if the recipient can justify the need for extra time. If applicants incur any costs prior to an award being made, they do solely at their own risk of not being reimbursed by the Government. Notwithstanding any verbal or written assurance that may have been received, there is no obligation on the part of DOC to cover pre-award costs.

Evaluation Criteria: Consideration for financial assistance will be given to those SABIT proposals which provide the following:

(1) Work Plan. Provide a detailed work plan for the intended training. If the company is providing different training plans for different interns, they MUST attach a separate work plan for each. If interns will be trained on the same plan, only one plan needs to be attached. Please note, if you are coordinating an internship which will take place at several companies, you must provide a work plan for each company. The work plan must include: (a) A detailed week-by-week description of internship activities; (b) a description of the intern's duties and responsibilities; (c) complete contact information for the everyday internship coordinator. (This person will be in daily contact with the intern); (d) locations of training within the company, if the internship(s) will be in different divisions; (e) locations of training outside the company. If the intern will spend substantial amounts of time at one or more external companies (over one week) the organization MUST provide a letter from each of those companies, indicating their willingness and ability to provide the planned training. Evaluation Scale: 0-40 points.

(2) Training Objectives Statement. Provide an objective statement, clearly titled “Training Objectives” with the company name noted indicating why the organization wishes to provide a professional training experience to a Eurasian manager or scientist. The company must note how the proposed training would further the intent and goals of the SABIT program to provide practical, on-the-job, non-academic, non-classroom training for a professional-level intern. Evaluation Scale: 0-30 points.

(3) Intern Description(s) and Resume(s): Provide descriptions for all the interns requested. This description should note the experience, education, and skills desired in a qualified candidate for the training they intend to provide. If the company wants interns from a specific region or country of Eurasia, it should be indicated in the application. If the company has already nominated candidates for training, they must also attach their resumes. Additionally, they must describe for SABIT the relationship they already maintain with the nominated candidates. Evaluation Scale: 0-15 points.

(4) Financial Resources Documentation: Evidence of adequate financial resources of Applicant organization to cover the costs involved in providing an internship(s). Evidence may include a published annual report, or a letter from the company's outside, independent accountant attesting to the organization's financial ability to support the training program planned and the funds requested or a letter from the organization's bank. All letters must be on the accountant's or bank's letterhead and addressed to the United States Department of Commerce. Evaluation Scale: 0-15 points.

(5) Federal Government Performance Record Statement: Evidence of a satisfactory record of performance in grants, contracts and/or cooperative agreements with the Federal Government, if applicable. (Applicants who are or have been deficient in current or recent performance in their grants, contracts, and/or cooperative agreements with the Federal Government shall be presumed to be unable to meet this requirement). If there is no record to date, the company should indicate this. Evaluation Scale: No points. If applicant has a Federal Government Performance Record Statement, this must be noted as specified in the Application Kit. If not this must be noted as well. Evaluation criteria are listed in decreasing importance. That is, evaluation criterion 1 is most important, followed by criterion 2, etc.

Project Funding Priorities: Applicant must indicate involvement in priority business sector(s). While Applicants involved in any industry sector may apply to the program, priority consideration is given to those operating in the following sectors: (a) Agribusiness (including food processing and distribution, and agricultural equipment), (b) Defense conversion, (c) Energy, (d) Environment (including environmental clean-up), (e) Financial services (including banking and accounting), (f) Housing, construction and infrastructure, (g) Medical equipment, supplies, pharmaceuticals, and health care management, (h) Product standards and quality control, (i) Telecommunications, (j) Transportation and (k) Biotechnology.

Priority funding will also be given to applicants applying to host interns from the following countries: Kazakhstan, Kyrgyzstan, Tajikistan, Turkmenistan and Uzbekistan.

Selection Procedures: Each application will receive an independent, objective review by one or more three or four-member independent review panels qualified to evaluate applications submitted under the program. Applications will be evaluated on a competitive, “rolling” basis as they are received in accordance with the selection evaluation criteria set forth above. Only after the deadline date (March 1, 2003) applicants that have received a passing score of 70 or above based on the evaluation criteria weighting will be ranked and awards will be made until funds are depleted. Applicants receiving scores below 70 will not be considered. ITA reserves the right to limit the award amount as well as the number of interns per applicant. The final selecting official reserves the right to choose or recommend recipients based on U.S. geographic location, organization size as well as priority business sectors and country priorities (listed in Project Funding Priorities, above) and past performance, when making awards. Recipients may be eligible, pursuant to approval of an amendment of an active award, to host additional interns under the program. The Director of the SABIT Program is the final selecting official for each award.

Intergovernmental Review: Applications under this program are not subject to Executive Order 12372, “Intergovernmental Review of Federal Programs.”

Application Forms and Kit: To obtain an application kit, please refer to the section above marked ADDRESSES. All applicants must submit a completed Standard Form 424, “Application for Federal Assistance” and a Standard Form 424B, “Assurances—Non-Construction Programs.” All applicants must also submit a completed Form CD-511, “Certifications Regarding Debarment, Suspension and Other Responsibility Matters; Drug-Free Workplace Requirements and Lobbying”. Form CD-511 and Standard Forms 424 and 424B are included in the Application Kit supplied by the SABIT office. Applicants will also need to provide the information to fulfill the “Evaluation Criteria” listed above. Please note: Applications must be submitted according to the detailed instructions in the SABIT Application Kit. Incomplete applications may be immediately returned unreviewed via regular U.S. mail.

An original and two copies of the application (including Standard Form 424 (Rev. 4-92) and supplemental material) are to be sent to the address designated in the Application Kit and postmarked no later than the closing date. Please sign the original application (including forms) with blue ink.

Additional Information: Applicants must also submit: (1) Basic Applicant Information Form, (2) Eurasian Intern Request Form, (3) Guarantees and Acknowledgments Form, (4) Bureau of Industry and Security (BIS) Statement (BIS is formerly the Bureau of Export Administration (BXA), (5) Market Survey for Housing.

Disposition of Unsuccessful Applications: Unsuccessful applications may be retained by the SABIT Program.

Other Requirements: Department of Commerce Pre-Award Notification Requirements for Grants and Cooperative Agreements, which are contained in Federal Register Notice of October 1, 2001 (66 FR 49917), as amended by the Notice published on October 30, 2002 (67 FR 66109), are applicable.

All applicants are advised of the following:

1. Participating companies will be required to comply with all relevant U.S. tax and export regulations. Export controls may relate not only to licensing of products for export, but also to technical data transfer. The U.S. Department of Commerce's Bureau of Industry and Security (BIS formerly BXA, the Bureau of Export Administration) reviews applications in question to determine whether export licenses are required. SABIT will not award a grant until the export license issue has been satisfied.

2. The following statutes apply to this program: Section 907 of the FREEDOM Support Act, Pub. L. 102-511, 22 U.S.C. 5812 note (Restriction on Assistance to the Government of Azerbaijan); Pub. L. 107-115 (Waiver of Section 907 of the Freedom Support Act); 7 U.S.C. “5201 et seq. (Agricultural Competitiveness and Trade—the Bumpers Amendment); The Foreign Assistance Act of 1961, as amended, including Chapter 11 of Part I, section 498A(b), Pub. L. 102-511, 22 U.S.C. 2295a(b) (regarding ineligibility for assistance); 22 U.S.C. 2420(a), Section 660(a) of The Foreign Assistance Act of 1961, as amended (Police Training Prohibition); and provisions in the annual Foreign Operations, Export Financing, and Related Programs Appropriations Acts, concerning impact on jobs in the United States (see, e.g., 536 of Pub. L. 106-113).

3. The collection of information is approved by the Office of Management and Budget, OMB Control Number 0625-0225. Public reporting for this collection of information is estimated to be three hours per response, including the time for reviewing instructions, and completing and reviewing the collection of information. All responses to this collection of information are voluntary, and will be protected from disclosure to the extent allowed under the Freedom of Information Act. The use of Standard Forms 424 and 424B is approved under OMB Control Numbers 0348-0043 and 0348-0040, respectively.

Notwithstanding any other provision of law, no person is required to respond to nor shall a person be subject to the requirements of the Paperwork Reduction Act unless that collection of information displays a currently valid OMB Control Number. Send comments regarding the burden estimate or any other aspect of this collection of information, including suggestions for reducing this burden, to the Reports Clearance Officer, International Trade Administration, Department of Commerce, Room 4001, 14th and Constitution Ave., NW., Washington, DC 20230.

4. Executive Order 12866: It has been determined that this notice is not significant for purposes of E.O. 12866.

5. Executive Order 13132: It has been determined that this notice does not contain policies with Federalism implications as that term is defined in E.O. 13132.

6. Administrative Procedure Act/Regulatory Flexibility Act: Because notice and comment are not required under 5 U.S.C. 553, or any other law, for notices relating to public property, loans, grants, benefits or contracts (5 U.S.C. 553(a)), a Regulatory Flexibility Analysis is not required and has not been prepared for this notice, 5 U.S.C. 601 et seq.

Dated: December 20, 2002.
Liesel C. Duhon,
Director, SABIT Program.

[FR Doc. 02-32689 Filed 12-26-02; 8:45 am]

BILLING CODE 3510-HE-P